DEPARTMENT OF ENERGY

Idaho Operations Office; Aluminum Visions of the Future

AGENCY: Idaho Operations Office, DOE.

ACTION: Notice of Competitive Financial Assistance Solicitation.

SUMMARY: The U.S. Department of Energy (DOE) Idaho Operations Office (ID) is seeking applications for cost-shared research and development of technologies which will reduce energy consumption, reduce environmental impacts and enhance economic competitiveness of the domestic aluminum industry. The research is to address research priorities identified by the aluminum industry in the Aluminum Industry Technology Roadmap and the Inert Anode Roadmap, (available at the following URL: http://www.oit.doe.gov/aluminum/alindust.shtml).

DATES: The Standard Form 424, and the technical application (20 page maximum), must have an IIPS transmission time stamp of not later than 3:00 p.m. MST on Wednesday, May 2, 2001.

ADDRESSES: Completed applications are required to be submitted via the U.S. Department of Energy Industry Interactive Procurement System (IIPS) at the following URL: http://e-center.doe.gov.

FOR FURTHER INFORMATION CONTACT: Elizabeth Dahl, Contract Specialist at dahlee@id.doe.gov, facsimile at (208) 526-5548, or by telephone at (208) 526-7214.

SUPPLEMENTARY INFORMATION: Approximately $2,500,000 in combined fiscal year 2002 Federal funds is expected to be available to totally fund the first year of selected research efforts. DOE anticipates making six to nine awards each with a duration of four years or less. This solicitation is requiring 50% cost share to ensure industrial involvement in each of the proposals and to ensure that the novel, energy efficient processes developed by this R&D program will be fully implemented by industry. There will be no waivers of this cost share requirement. Multi-partner collaborations between industry, university, and National Laboratory participants are encouraged. The issuance date of Solicitation Number DE-PS07-01ID14050 is on or about February 6, 2001. The solicitation is available in its full text via the Internet at the following address: http://e-center.doe.gov. The statutory authority for this program is the Federal Non-Nuclear Energy Research and Development Act of 1974 (Pub. L. 93-577). The Catalog of Federal Domestic Assistance (CFDA) Number for this program is 81.086.

Issued in Idaho Falls on January 31, 2001.
R.J. Hoyles,
Director, Procurement Services Division.

[FR Doc. 01-3315 Filed 2-7-01; 8:45 am]

BILLING CODE 6450-01-P